DEPARTMENT OF EDUCATION

A Framework for Developing High-Quality English Language Proficiency Standards and Assessments

AGENCY: Office of the Deputy Secretary, Department of Education.

ACTION: Notice of public meetings and request for recommendations on a framework for developing high-quality English language proficiency standards and assessments (Framework).

SUMMARY: The Secretary of Education (Secretary) seeks recommendations on developing a Framework for States to consider in examining the quality of their standards and assessments for English language proficiency (ELP) under Title III of the Elementary and Secondary Education Act of 1965 (ESEA), as amended by the No Child Left Behind Act of 2001 (NCLB). The Framework, once developed, will be provided to States for their use in evaluating their ELP standards and assessments. The Framework also will help States identify their technical assistance needs related to ELP standards and assessments and, therefore, help the U.S. Department of Education (Department) provide States with the assistance they need to implement the Title III standards and assessment requirements effectively.

DATES: We must receive your recommendations on or before 5 p.m., Eastern time, on August 1, 2007.

ADDRESSES: Address all recommendations to the Office of the Deputy Secretary, U.S. Department of Education, 400 Maryland Avenue, SW., room 7W308, Washington, DC 20202-6132.

If you prefer to send your recommendations through the Internet, use the following e-mail address: LEP.Partnership@ed.gov.

You must use the term “Framework for Title III” in the subject line of your electronic message.

FOR FURTHER INFORMATION CONTACT: Hanna Skandera. Telephone: (202) 401-0831.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Background

Addressing the needs of the Nation's more than 4.6 million (and growing) population of limited English proficient (LEP) students is central to meeting the goals of NCLB. Improving instruction and closing the achievement gap for LEP students start with high-quality standards and assessments. We must be able to measure what LEP students know and do not know, in terms of core subject matter and the acquisition of English language skills, in order to address their academic needs. The focus on both core subject matter (e.g., reading/language arts, math, and science) and the acquisition of English language skills requires coordination and collaboration between the Title I and Title III programs. Therefore, we invite and encourage recommendations from not only technical experts in standards, assessment, and language development, but also parents, teachers, administrators, researchers, and others with experience and expertise in Title I or Title III programs.

Section 3113 of the ESEA requires each State educational agency (SEA) to submit a plan to the Secretary describing how the agency will establish standards and objectives for raising the level of English proficiency that are derived from the four recognized domains of speaking, listening, reading, and writing, and that are aligned with the achievement of the challenging academic content and student academic achievement standards for all students that States have adopted pursuant to section 1111(b)(1) of Title I of the ESEA. Further, under section 1111(b)(7) of Title I, each State plan must demonstrate that local educational agencies (LEAs) in the State provide an annual assessment of the English proficiency (measuring students' oral language, reading, and writing skills in English) of all LEP students in their schools. Finally, section 3122(a)(3)(A)(ii) of Title III requires that increases in the number or percentage of children attaining English proficiency be determined using a valid and reliable assessment of English proficiency.

The Department expects the Framework to be informed by States' experiences in developing standards and assessments in the academic content areas, as well as their work related to English language acquisition. In addition, the Department recognizes that there are professional standards for the technical quality of assessments, as well as accepted methodologies for developing standards and evaluating the alignment of standards with assessments. Such experiences and knowledge can, and should, inform the development of ELP standards and assessments under Title III. However, in developing their ELP standards and assessments, States have raised additional questions, such as on the level of English proficiency that is necessary to learn academic content; the differences between the skills necessary for speaking English and the skills necessary for reading and writing English; and the relationship of ELP standards and assessments to the standards and assessments developed under Title I. To address these issues and to support the States in their work to improve English language proficiency and the academic achievement of LEP students, the Department initiated the LEP Partnership. The LEP Partnership includes States, the National Council of La Raza, the Mexican American Legal Defense and Educational Fund, the Council of Chief State School Officers, the Comprehensive Center on Assessment and Accountability, and the National Clearinghouse on English Language Acquisition. For more information about the LEP Partnership, please see http://www.ed.gov/about/inits/ed/lep-partnership.

Through the LEP Partnership, the Department has pledged to provide technical assistance and support to States on various strategies for appropriately assessing LEP students. At the second meeting of the LEP Partnership in Washington, DC in October 2006, Department officials asked States to identify areas in which they needed technical assistance. States agreed that they needed assistance from the Department on how they should evaluate their ELP standards and the technical quality of their ELP assessments, as well as how they should demonstrate the alignment of their ELP standards with their ELP assessments. Many States also asked about the statutory language in Title III that requires States to demonstrate that their ELP standards and assessments are aligned with achievement of their State's challenging academic content and achievement standards under Title I, and how they should demonstrate this alignment. Some States specifically asked whether a single assessment could be used to assess a student's English language proficiency and achievement of content in reading/language arts.

Invitation To Submit Recommendations

We invite you to submit recommendations on a Framework for States to use in examining their ELP standards and assessments under Title III to ensure that they are of high quality and promote effective instruction to raise the level of English proficiency and academic achievement of LEP students. Specifically, we invite you to submit recommendations in response to the following four questions that are based on the statutory language in Title III. The Department anticipates that, within each of these questions, there will be numerous specific and technical issues you will want to address.

1. What are the critical elements that States should examine to ensure that their ELP standards promote effective instruction to raise LEP students' level of English proficiency? (Section 3113(b)(2))

2. What are the critical elements that States should examine to ensure that their ELP assessments provide a valid and reliable assessment of English language proficiency? (Section 3122(a)(3)(A)(ii))

3. What are the critical elements that States should examine to ensure that their ELP standards are aligned with their ELP assessments? (Sections 3113(b)(2) and (3)(D) and 3122(a)(3)(A)(ii)).

4. What are strategies that States can use to ensure that their ELP standards are aligned with the achievement of challenging State academic content standards and student academic achievement standards they have adopted under Title I? (Section 3113(b)(2)).

To ensure that your recommendations are considered in the development of the Framework, we urge you to identify clearly the specific question that each recommendation addresses and to arrange your recommendations in the order listed above.

We encourage you to make your recommendations as specific as possible. Please also include, with your recommendations, a description of your involvement in LEP issues.

During and after the period for submitting recommendations, you may inspect all recommendations about the Framework at the U.S. Department of Education, 400 Maryland Avenue, SW., room 7W308, Washington, DC, between the hours of 8:30 a.m. and 4 p.m., Eastern time, Monday through Friday of each week except Federal holidays.

Assistance to Individuals With Disabilities in Reviewing the Recommendations

On request, we will supply an appropriate aid, such as a reader or print magnifier, to an individual with a disability who needs assistance to review the recommendations. If you want to schedule an appointment for this type of aid, please contact the person listed under FOR FURTHER INFORMATION CONTACT.

Announcement of Public Meetings

We also will be holding a series of meetings to seek recommendations for developing the Framework. The meetings will occur on the following dates at the times and locations indicated:

Wednesday, June 20, 2007, in Nashville, Tennessee at the Gaylord Opryland Resort and Convention Center, 2800 Opryland Drive, Nashville, TN, from 1 p.m. to 5 p.m.

Wednesday, July 18, 2007, in Washington, DC at the Wyndham Hotel, 1400 M Street, NW., from 2 p.m. to 6 p.m.

Thursday, July 26, 2007, in Washington, DC at the Capitol Hilton, 1001 16th Street, NW., from 1 p.m. to 5 p.m.

Each meeting will begin with a roundtable discussion, with experts who have been invited by the Department to participate in a discussion, focused on the four questions listed above. These experts will be from State Departments of Education, LEAs, universities, and non-governmental organizations and have knowledge and expertise in the following areas: Assessment development (both content assessments under Title I and language acquisition assessments under Title III); standards development; assessment and instruction of LEP students; Title III requirements; Title I requirements; and English language development. Staff from the Department's comprehensive technical assistance centers will facilitate the roundtable discussions.

During the final 90 minutes of each meeting, we will provide the public with an opportunity to comment on the discussion or to provide additional recommendations.

Individuals interested in giving testimony during the public session of the meetings to address one or more of the four questions will be allowed three to five minutes to make their statements. We request that you submit three written copies and an electronic file (CD or diskette) of your statement at the meeting. Please include your name and contact information on the written and electronic files.

If you are interested in giving testimony during the public session of a meeting, please register at the LEP Partnership Web site, LEP.Partnership@ed.gov, at least one week before the public meeting. We will process registrations on a first-come, first-served basis. Persons who are unable to register to present testimony during the meeting are encouraged to submit written recommendations. Written recommendations will be accepted at the meeting site or via e-mail at the addresses listed in the ADDRESSES section of this notice.

Assistance to Individuals With Disabilities at the Public Meetings

The meeting sites will be accessible to individuals with disabilities and sign language interpreters will be available. If you need an auxiliary aid or service other than a sign language interpreter to participate in the meeting (e.g., interpreting service such as oral, cued speech, or tactile interpreter; assisted listening device; or materials in alternate format), notify the contact person listed under FOR FURTHER INFORMATION CONTACT at least two weeks before the scheduled meeting date. Although we will attempt to meet a request we receive after this date, we may not be able to make available the requested auxiliary aid or service because of insufficient time to arrange it.

Electronic Access to This Document

You may review this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 1, 2007.
Raymond Simon,
Deputy Secretary.

[FR Doc. E7-10919 Filed 6-5-07; 8:45 am]

BILLING CODE 4000-01-P